DEPARTMENT OF HEALTH AND HUMAN SERVICES

National Institutes of Health

Request for Information for the Development of the Fiscal Year 2019 Trans-NIH Plan for HIV-Related Research

SUMMARY: Through this Request for Information (RFI), the Office of AIDS Research (OAR) in the Division of Program Coordination, Planning, and Strategic Initiatives (DPCPSI), National Institutes of Health (NIH), invites feedback from investigators in academia, industry, health care professionals, patient advocates and health advocacy organizations, scientific or professional organizations, federal agencies, community, and other interested constituents on the development of the fiscal year (FY) 2019 Trans-NIH Plan for HIV-Related Research (FY 2019 AIDS Research Plan). This plan is designed to identify and articulate future directions to maximize the NIH's investments in HIV/AIDS research.

DATES: The OAR's Request for Information is open for public comment for a period of 45 days. Comments must be received by May 15, 2017 to ensure consideration. After the public comment period has closed, the comments received by the OAR will be considered in a timely manner for the development of the FY2019 AIDS Research Plan.

ADDRESSES: Submissions may be electronically sent to http://grants.nih.gov/grants/rfi/rfi.cfm?ID=63 or, if needed, by mail to Paul Gaist, Ph.D., M.P.H. Office of AIDS Research, National Institutes of Health, Room 2E40, 5601 Fishers Lane, Rockville, Maryland 20852.

FOR FURTHER INFORMATION CONTACT: Questions about this request for information should be directed to Paul Gaist, Ph.D., M.P.H. Office of AIDS Research, National Institutes of Health Email: ODOARRFI19@nih.gov or if needed, by mail to Room 2E40, 5601 Fishers Lane, Rockville, Maryland 20852.

SUPPLEMENTARY INFORMATION: To access and respond to the RFI, go to the following Web address: http://grants.nih.gov/grants/rfi/rfi.cfm?ID=63.

OAR oversees and coordinates the conduct and support of all HIV/AIDS research activities across the NIH Institutes and Centers (ICs). The NIH-sponsored HIV/AIDS research program includes both extramural and intramural research, buildings and facilities, research training, program evaluation, and supports a comprehensive portfolio of research representing a broad range of basic, clinical, behavioral, social science, and translational research on HIV/AIDS and its associated coinfections and comorbidities.

OAR plans and coordinates research through the development of an annual Trans-NIH Plan for HIV-Related Research that articulates the overarching HIV/AIDS research priorities and serves as the framework for developing the trans-NIH HIV/AIDS research budget. This Plan provides information about the NIH's HIV/AIDS research priorities to the scientific community, Congress, community stakeholders, HIV-affected communities, and the broad public at large. The fiscal year 2018 Trans-NIH Plan for HIV-Related Research was recently distributed on the OAR Web site: (https://www.oar.nih.gov/strategic_plan/plan_18.asp).

New overarching priorities for HIV/AIDS research were defined in the NIH Director's Statement of August 12, 2015 (https://grants.nih.gov/grants/guide/notice-files/NOT-OD-15-137.html).

High Priority topics of research for support include:

(1) Reducing the incidence of HIV/AIDS;

(2) Developing the next generation of HIV therapies;

(3) Identifying strategies towards a cure;

(4) Improving the prevention and treatment of HIV-associated comorbidities, coinfections, and complications; and

(5) Cross-cutting basic research, behavioral and social science research, health disparities, and training.

This RFI is for planning purposes only and should not be construed as a solicitation for applications or proposals, or as an obligation in any way on the part of the United States federal government. The federal government will not pay for the preparation of any information submitted or for the government's use. Additionally, the government cannot guarantee the confidentiality of the information provided.

Dated: March 23, 2017.
Lawrence A. Tabak,
Deputy Director, National Institutes of Health.

[FR Doc. 2017-06183 Filed 3-28-17; 8:45 am]

BILLING CODE 4140-01-P